DEPARTMENT OF HEALTH AND HUMAN SERVICES

Announcement of Anticipated Availability of Funds for Family Planning Services Grants

AGENCY: Office of the Secretary, Office of Public Health and Science, Office of Population Affairs, HHS.

ACTION: Notice; correction.

SUMMARY: The Office of Population Affairs, OPHS, HHS published a notice in the Federal Register of July 5, 2002 announcing the anticipated availability of funds for family planning services grants. Table I of the document omitted two eligible populations/areas to be served. These omissions caused the total amount of funding, as stated in Table 1, to be incorrect. This document corrects those items.

FOR FURTHER INFORMATION CONTACT: Kathleen Woodall, 301-594-0190; e-mail: kwoodall@osophs.dhhs.gov.

SUPPLEMENTARY INFORMATION:

Correction

On page 45014, in the third column, correct the eighth line from the bottom of the page to read “approximately $105.2 million will be.”

On page 45015, correct Table I to read:

Populations/areas to be served | Funding available | Application due date | Approx. grant funding date
Region I
Massachusetts-Central/Southeast | $1,471,813 | 09-01-02 | 01-01-03
Region II
New Jersey | 7,974,484 | 09-01-02 | 01-01-03
New York, NY | 3,522,462 | 03-01-03 | 07-01-03
Region III
Delaware | 1,009,643 | 12-01-02 | 04-01-03
Maryland | 3,729,883 | 12-01-02 | 04-01-03
Pennsylvania | 11,951,606 | 03-01-03 | 07-01-03
Virginia | 4,299,203 | 12-01-02 | 04-01-03
West Virginia | 2,008,201 | 12-01-02 | 04-01-03
Region IV
Alabama | 4,315,101 | 03-01-03 | 07-01-03
Florida | 7,652,636 | 03-01-03 | 07-01-03
Georgia | 7,080,259 | 03-01-03 | 07-01-03
Kentucky | 4,759,359 | 03-01-03 | 07-01-03
Mississippi | 4,508,789 | 03-01-03 | 07-01-03
North Carolina | 6,076,410 | 03-01-03 | 07-01-03
Region V
Minnesota | 2,242,934 | 09-01-03 | 01-01-03
Minneapolis, Minnesota | 187,945 | 05-29-03 | 09-29-03
Ohio | 5,202,414 | 12-01-02 | 03-01-03
Portage, Summit & Medina Counties, Ohio | 749,745 | 03-01-03 | 07-01-03
Region VI
Louisiana | 3,743,201 | 03-01-03 | 07-01-03
Region VII
Iowa | 2,206,340 | 03-01-03 | 07-01-03
Iowa | 951,128 | 05-30-03 | 09-30-03
Region VIII
Montana | 1,707,000 | 03-01-03 | 07-01-03
Region IX
Arizona | 3,811,522 | 09-01-02 | 01-01-03
California | 20,123,818 | 09-01-02 | 01-01-03
Washoe County, Nevada | 613,415 | 03-01-03 | 07-01-03
Region X
Idaho | 949,660 | 03-01-03 | 07-01-03
Seattle, WA | 163,438 | 05-30-03 | 09-30-03

Dated: October 3, 2002.
Alma L. Golden,
Deputy Assistant Secretary for Population Affairs.

[FR Doc. 02-25986 Filed 10-10-02; 8:45 am]

BILLING CODE 4150-34-P